SURFACE TRANSPORTATION BOARD

[Docket No. EP 290 (Sub-No. 5) (2018-2)]

Quarterly Rail Cost Adjustment Factor

AGENCY: Surface Transportation Board.

ACTION: Approval of rail cost adjustment factor.

SUMMARY: The Board approves the second quarter 2018 Rail Cost Adjustment Factor (RCAF) and cost index filed by the Association of American Railroads. The second quarter 2018 RCAF (Unadjusted) is 1.041. The second quarter 2018 RCAF (Adjusted) is 0.440. The second quarter 2018 RCAF-5 is 0.411. In addition, the Board is including recalculated RCAF figures for the second quarter of 2017 through the first quarter of 2018, which AAR submitted pursuant to the Board's January 29, 2018 decision. The recalculated RCAF figures for the second quarter of 2017 through the first quarter of 2018 were recalculated as if AAR had used the geometric average productivity growth of 0.994 for the 2011-2015 five-year period in its original filings. The recalculated figures are included in Table C of the Board's decision.

DATES: Applicable Date: April 1, 2018.

FOR FURTHER INFORMATION CONTACT: Pedro Ramirez, (202) 245-0333. Federal Information Relay Service (FIRS) for the hearing impaired: (800) 877-8339.

SUPPLEMENTARY INFORMATION: Additional information is contained in the Board's decision, which is available on our website, http://www.stb.gov. Copies of the decision may be purchased by contacting the Office of Public Assistance, Governmental Affairs, and Compliance at (202) 245-0238. Assistance for the hearing impaired is available through FIRS at (800) 877-8339.

This action is categorically excluded from environmental review under 49 CFR 1105.6(c).

Decided: March 15, 2018.
By the Board, Board Members Begeman and Miller.
Jeffrey Herzig,
Clearance Clerk.

[FR Doc. 2018-05697 Filed 3-20-18; 8:45 am]

BILLING CODE 4915-01-P